DEPARTMENT OF HEALTH AND HUMAN SERVICES

Centers for Disease Control and Prevention

[30Day-16-1006]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC Work@Health® Program: Phase 2 Training and Technical Assistance Evaluation (OMB No. 0920-1006, exp. date 1/31/2016)—Revision—National Center for Chronic Disease Prevention and Health Promotion (NCCDPHP), Centers for Disease Control and Prevention (CDC).

Background and Brief Description

The Centers for Disease Control and Prevention (CDC) is continuing to make available the Work@Health® Program, a comprehensive worksite health promotion training program, to support employers' efforts to create healthy work environments and provide employees with opportunities to make healthy lifestyle choices. The Work@Health® Program will train and support small, mid-size, and large employers with three primary goals: (1) Increase understanding of the training needs of employers and the best way to deliver skill-based training to them; (2) Increase employers' level of knowledge and awareness of worksite health program concepts and principles; and 3) Increase the number of science-based worksite health programs, policies, and practices in place in participating employers' worksites resulting in opportunities for employees to participate in them.

CDC is requesting OMB approval to continue Phase 2 information collection with new cohorts of respondents in 2016-2019. Phase 2 procedures were informed by a needs assessment and pilot test that were conducted in fall 2013 (“CDC Work@Health® Program: Phase 1,” OMB No. 0920-0989, exp. 9/30/2014) as well as first year results. CDC will offer training in four models (formats): (1) A “Hands-on” instructor-led workshop model (T1), (2) a self-paced ”Online” model (T2), (3) a combination or “Blended” model (T3), and (4) a “Train-the-Trainer” model (T4) designed to prepare qualified individuals to train employers through the Hands-on, Online, or Blended models.

To evaluate the training, information will be collected from approximately 480 employers and approximately 120 individuals who are interested in becoming trained/certified instructors for the Work@Health® Program. In addition, information will be collected from approximately 600 participant who receive training delieverd by the trained/certified instructors. Respondents will include employers/employees, trainees who participate in the four training models, and training and technical assistance instructors, coaches and subject matter experts.

CDC will use the information collected to evaluate the effectiveness of the Work@Health® Program in terms of (1) increasing employer's knowledge and awareness of worksite health concepts, principles, and resources, and (2) increasing the number of science-based worksite health programs, policies and practices in place at participating employers' worksites. The information will also be used to continue to identify and improve the best way(s) to deliver skill-based training and technical support to employers in the area of worksite health.

OMB approval is requested for three years. Participation in Work@Health® is voluntary and there are no costs to participants other than their time. The total estimated annualized burden hours are 1,047.

Estimated Annualized Burden Hours
Type of respondent | Form name | Number of respondents | Number of responses per respondent | Average burden per response (in hrs.)
Interested Employer | Employer Application Form | 400 | 1 | 20/60
Employers Participating in Work@Health | CDC Worksite Health Scorecard Organizational Assessment | 320 320 | 1 1 | 0.5 15/60
| Employer Follow-up Survey | 160 | 1 | 15/60
| Case Study Interviews with Senior Leadership | 2 | 1 | 1
| Case Study Interviews with Employees | 4 | 1 | 1
Trainees Participating in the Work@Health Program (Hands-on, Online, Blended models) | Trainee KAB Survey Trainee Reaction Survey—Hands-On Model Trainee Reaction Survey—Online Model Trainee Reaction Survey—Blended Model | 640 100 120 100 | 1 1 1 1 | 20/60 15/60 15/60 15/60
| Trainee Technical Assistance Survey | 640 | 1 | 15/60
| Case Study Interviews with Selected Trainees | 10 | 1 | 1
| Trainee Focus Group Discussion Guide | 7 | 1 | 1.5
Interested Train-the-Trainer Participants | Train-the-Trainer Application Form | 80 | 1 | 0.5
Trainees Participating in the Work@Health Program (Train-the-Trainer model) | Train-the-Trainer Participant Survey Trainee Reaction Survey—Train-the-Trainer Model Train-the-Trainer Trainee Technical Assistance Survey | 80 40 80 | 1 1 1 | 20/60 15/60 15/60
Trainees participating in the Work@Health Program Wave 2 | Wave 2 Trainee Reaction Survey | 200 | 1 | 15/60
Work@Health Instructors/Coaches | Instructor/Coach Group Discussion Guide | 7 | 1 | 0.5

Leroy A. Richardson,
Chief, Information Collection Review Office, Office of Scientific Integrity, Office of the Associate Director for Science, Office of the Director, Centers for Disease Control and Prevention.

[FR Doc. 2015-32139 Filed 12-21-15; 8:45 am]

BILLING CODE 4163-18-P